DEPARTMENT OF HOMELAND SECURITY

Transportation Security Administration

49 CFR Parts 1544, 1546, and 1548

[Docket No. TSA-2004-19515; Amendment Nos. 1520-4, 1540-7, 1542-2, 1544-5, 1546-2, and 1548-2]

RIN 1652-AA23

Air Cargo Security Requirements; Correction

AGENCY: Transportation Security Administration (TSA), DHS.

ACTION: Final rule; correction.

SUMMARY: This document makes a correction to the final rule published in the Federal Register on May 26, 2006. That rule enhances and improves the security of air cargo transportation by requiring airport operators, aircraft operators, foreign air carriers, and indirect air carriers to implement security measures in the air cargo supply chain as directed under the Aviation and Transportation Security Act. The final rule also amends the applicability of the requirement for a “twelve-five” security program for aircraft with a maximum certificated takeoff weight of 12,500 pounds or more to those aircraft with a maximum certificated takeoff weight of more than 12,500 pounds to conform to recent legislation. TSA listed an incorrect compliance date in certain sections of parts 1544, 1546, and 1548 dealing with security threat assessments and a mandatory security program requirement for operators. This document adds the correct compliance date to these sections.

DATES: Effective October 23, 2006.

FOR FURTHER INFORMATION CONTACT: Tamika McCree, Office of Transportation Sector Network Management (TSA-28), Transportation Security Administration, 601 South 12th Street, Arlington, VA 22202; (571-227-2632); tamika.mccree@dhs.gov.

SUPPLEMENTARY INFORMATION:

Background

On May 26, 2006, TSA published a final rule in a separate Part II of the Federal Register (71 FR 30478), revising various regulations to enhance and improve the security of air cargo transportation. Although TSA listed the correct compliance dates in the DATES section of the final rule preamble, we incorrectly listed the compliance date dealing with security threat assessments in §§ 1544.228(d), 1546.213(d), 1548.5(a), and 1548.16(a), and a mandatory security program requirement in § 1548.15(d) for operators. This document corrects the date in these sections from the incorrect date of November 22, 2006, to the correct date of December 1, 2006.

Correction

In rule FR Doc. 06-4800, published on May 26, 2006 (71 FR 30478), make the following corrections:

§ 1544.228 [Corrected]

1. On page 30511, in the second column, in § 1544.228 Access to Cargo: Security threat assessments for cargo personnel in the United States, at the end of paragraph (d), remove the date “November 22, 2006” and add in its place, the date “December 1, 2006”.

§ 1546.213 [Corrected]

2. On page 30512, in the third column, in § 1546.213 Access to Cargo: Security threat assessments for cargo personnel in the United States, at the end of paragraph (d), remove the date “November 22, 2006” and add in its place, the date “December 1, 2006”.

§ 1548.5 [Corrected]

3. On page 30513, in the second column, in § 1548.5 Adoption and implementation of the security program, at the end of paragraph (a), remove the date “November 22, 2006” and add in its place, the date “December 1, 2006”.

§ 1548.15 [Corrected]

4. On page 30516, in the second column, in § 1548.15 Access to Cargo: Security threat assessments for individuals having unescorted access to cargo, at the end of paragraph (d), remove the date “November 22, 2006” and add in its place, the date “December 1, 2006”.

§ 1548.16 [Corrected]

5. On page 30516, in the second column, in § 1548.16 Security threat assessments for each proprietor, general partner, officer, director, and certain owners of the entity, at the end of paragraph (a), remove the date “November 22, 2006” and add in its place, the date “December 1, 2006”.

Issued in Arlington, Virginia, on May 26, 2006.
Mardi Ruth Thompson,
Deputy Chief Counsel for Regulations.

[FR Doc. E6-8584 Filed 6-1-06; 8:45 am]

BILLING CODE 9110-05-P